DEPARTMENT OF AGRICULTURE

Rural Business-Cooperative Service

Notice of Stakeholder Meetings on Rural Energy for America Program

AGENCY: Rural Business-Cooperative Service, USDA.

ACTION: Notice of public meetings.

SUMMARY: The Rural Business-Cooperative Service (RBS) will hold meetings for stakeholders focusing on Rural Development's Rural Energy for America Program implemented under the Food, Conservation, and Energy Act of 2008 (2008 Farm Bill) during the first quarter of calendar year 2012. These meetings will be hosted by Rural Development State Directors. Stakeholders must contact the appropriate Rural Development State Office in order to participate.

DATES: The stakeholder meetings will be held during the first quarter of calendar year 2012. Please contact the Rural Development State Office for your State, as identified in the ADDRESSES section of this Notice, for the specific date and time.

ADDRESSES: RBS intends to hold the stakeholder meetings at Rural Development's State Offices. To confirm the location of the meeting for your State, please contact the applicable USDA Rural Development Energy Coordinator for your State. These Energy Coordinators are listed below.

Rural Development Energy Coordinators

Note: Telephone numbers listed are not toll-free.

Alabama

Marcia Johnson, USDA Rural Development, Sterling Centre, Suite 601, 4121 Carmichael Road, Montgomery, AL 36106-3683, (334) 279-3453, marcia.johnson@al.usda.gov.

Alaska

Chad Stovall, USDA Rural Development, 800 West Evergreen, Suite 201, Palmer, AK 99645-6539, (907) 761-7718, chad.stovall@ak.usda.gov.

American Samoa (See Hawaii)

Arizona

Gary Mack, USDA Rural Development, 230 North First Avenue, Suite 206, Phoenix, AZ 85003-1706, (602) 280-8717, Gary.Mack@az.usda.gov.

Arkansas

Laura Tucker, USDA Rural Development, 700 West Capitol Avenue, Room 3416, Little Rock, AR 72201-3225, (501) 301-3280, Laura.Tucker@ar.usda.gov.

California

Philip Brown, USDA Rural Development, 430 G Street, #4169, Davis, CA 95616, (530) 792-5811, Phil.brown@ca.usda.gov.

Colorado

Janice Pond, USDA Rural Development, Denver Federal Center, Building 56, Room 2300, P.O. Box 25426, Denver, CO 80225-0426, (720) 544-2907, Janice.pond@co.usda.gov.

Commonwealth of the Northern Marianas Islands-CNMI (See Hawaii)

Connecticut (see Massachusetts)

Delaware/Maryland

Bruce Weaver, USDA Rural Development, 1221 College Park Drive, Suite 200, Dover, DE 19904, (302) 857-3629, Bruce.Weaver@de.usda.gov.

Federated States of Micronesia (See Hawaii)

Florida/Virgin Islands

Angela Prioleau, USDA Rural Development, 4440 NW. 25th Place, Gainesville, FL 32606, (352) 338-3412, angela.prioleua@fl.usda.gov.

Georgia

J. Craig Scroggs, USDA Rural Development, 111 E. Spring St., Suite B, Monroe, GA 30655, Phone (770) 267-1413 ext. 113, craig.scroggs@ga.usda.gov.

Guam (See Hawaii)

Hawaii/Guam/Republic of Palau/Federated States of Micronesia/Republic of the Marshall Islands/American Samoa/Commonwealth of the Northern Marianas Islands-CNMI

Tim O'Connell, USDA Rural Development, Federal Building, Room 311, 154 Waianuenue Avenue, Hilo, HI 96720, (808) 933-8313, Tim.Oconnell@hi.usda.gov.

Idaho

Brian Buch, USDA Rural Development, 9173 W. Barnes Drive, Suite A1, Boise, ID 83709, (208) 378-5623, Brian.Buch@id.usda.gov.

Illinois

Mary Warren, USDA Rural Development, 2118 West Park Court, Suite A, Champaign, IL 61821, (217) 403-6218, mary.warren@il.usda.gov.

Indiana

Jerry Hay, USDA Rural Development, 5975 Lakeside Boulevard, Indianapolis, IN 46278, (812) 346-3411, Ext. 126, Jerry.Hay@in.usda.gov.

Iowa

Kate Sand, USDA Rural Development, 909 E. 2nd Avenue, Suite C, Indianola, IA 50125, (515) 961-5365 Ext. 130, kate.sand@ia.usda.gov.

Kansas

David Kramer, USDA Rural Development, 1303 SW First American Place, Suite 100, Topeka, KS 66604-4040, (785) 271-2730, david.kramer@ks.usda.gov.

Kentucky

Scott Maas, USDA Rural Development, 771 Corporate Drive, Suite 200, Lexington, KY 40503, (859) 224-7435, scott.maas@ky.usda.gov.

Louisiana

Kevin Boone, USDA Rural Development, 905 Jefferson Street, Suite 320, Lafayette, LA 70501, (337) 262-6601, Ext. 133, Kevin.Boone@la.usda.gov.

Maine

Beverly Stone, USDA Rural Development, 967 Illinois Avenue, Suite 4, P.O. Box 405, Bangor, ME 04402-0405, (207) 990-9125, Beverly.Stone@me.usda.gov

Maryland (see Delaware)

Massachusetts/Rhode Island/Connecticut

Charles W. Dubuc, USDA Rural Development, 60 Quaker Lane, Suite 44, Warwick, RI 02886, (401) 822-8867, Charles.Dubuc@ma.usda.gov.

Michigan

Rick Vanderbeek, USDA Rural Development, 3001 Coolidge Road, Suite 200, East Lansing, MI 48823, (517) 324-5157, rick.vanderbeek@mi.usda.gov.

Minnesota

Ron Oman, USDA Rural Development, 375 Jackson St., Suite 410, St. Paul, MN 55101, (651) 602-7796, Ron.Omann@mn.usda.gov.

Mississippi

G. Gary Jones, USDA Rural Development, 100 W. Capital Street, Suite 831, Jackson, MS 39269, (601) 965-5457, george.jones@ms.usda.gov.

Missouri

Matt Moore, USDA Rural Development, 601 Business Loop 70 West, Parkade Center, Suite 235, Columbia, MO 65203, (573) 876-9321, matt.moore@mo.usda.gov.

Montana

John Guthmiller, USDA Rural Development, 2229 Boot Hill Court, P.O. Box 850, Bozeman, MT 59771, (406) 585-2540, John.Guthmiller@mt.usda.gov.

Nebraska

Debra Yocum, USDA Rural Development, 100 Centennial Mall North, Room 152, Federal Building, Lincoln, NE 68508, (402) 437-5554, Debra.Yocum@ne.usda.gov.

Nevada

Mark Williams, USDA Rural Development, 1390 South Curry Street, Carson City, NV 89703, (775) 887-1222, mark.williams@nv.usda.gov.

New Hampshire (See Vermont)

New Jersey

Victoria Fekete, USDA Rural Development, 8000 Midlantic Drive, Suite 500N, Mt. Laurel, NJ 08054, (856) 787-7752, Victoria.Fekete@nj.usda.gov.

New Mexico

Jesse Bopp, USDA Rural Development, 6200 Jefferson Street NE., Room 255, Albuquerque, NM 87109, (505) 761-4952, Jesse.bopp@nm.usda.gov.

New York

Scott Collins, USDA Rural Development, 9025 River Road, Marcy, NY 13403, (315) 736-3316 Ext. 127, scott.collins@ny.usda.gov.

North Carolina

David Thigpen, USDA Rural Development, 4405 Bland Rd., Suite 260, Raleigh, NC 27609, (919) 873-2065, David.Thigpen@nc.usda.gov.

North Dakota

Dennis Rodin, USDA Rural Development, Federal Building, Room 208, 220 East Rosser Avenue, P.O. Box 1737, Bismarck, ND 58502-1737, (701) 530-2068, Dennis.Rodin@nd.usda.gov.

Ohio

Randy Monhemius, USDA Rural Development, Federal Building, Room 507, 200 North High Street, Columbus, OH 43215-2418, (614) 255-2424, Randy.Monhemius@oh.usda.gov.

Oklahoma

Jody Harris, USDA Rural Development, 100 USDA, Suite 108, Stillwater, OK 74074-2654, (405) 742-1036, Jody.harris@ok.usda.gov.

Oregon

Don Hollis, USDA Rural Development, 200 SE Hailey Ave., Suite 105, Pendleton, OR 97801, (541) 278-8049, Ext. 129, Don.Hollis@or.usda.gov.

Pennsylvania

Amanda Krugh, USDA Rural Development, 1 Credit Union Place, Suite 330, Harrisburg, PA 17110-2996, Phone: (717) 237-2289, Amanda.Krugh@pa.usda.gov.

Puerto Rico

Luis Garcia, USDA Rural Development, IBM Building, 654 Munoz Rivera Avenue, Suite 601, Hato Rey, PR 00918-6106, (787) 766-5091, Ext. 251, Luis.Garcia@pr.usda.gov.

Republic of Palau (See Hawaii)

Republic of the Marshall Islands (See Hawaii)

Rhode Island (see Massachusetts)

South Carolina

Shannon Legree, USDA Rural Development, Strom Thurmond Federal Building, 1835 Assembly Street, Room 1007, Columbia, SC 29201, (803) 253-3150, Shannon.Legree@sc.usda.gov.

South Dakota

Kenneth Lynch, USDA Rural Development, Federal Building, Room 210, 200 4th Street, SW., Huron, SD 57350, (605) 352-1120, ken.lynch@sd.usda.gov.

Tennessee

Will Dodson, USDA Rural Development, 3322 West End Avenue, Suite 300, Nashville, TN 37203-1084, (615) 783-1350, will.dodson@tn.usda.gov.

Texas

Billy Curb, USDA Rural Development, Federal Building, Suite 102, 101 South Main Street, Temple, TX 76501, (254) 742-9775, billy.curb@tx.usda.gov.

Utah

Roger Koon, USDA Rural Development, Wallace F. Bennett Federal Building, 125 South State Street, Room 4311, Salt Lake City, UT 84138, (801) 524-4301, Roger.Koon@ut.usda.gov.

Vermont/New Hampshire

Cheryl Ducharme, USDA Rural Development, 89 Main Street, 3rd Floor, Montpelier, VT 05602, (802) 828-6083, cheryl.ducharme@vt.usda.gov.

Virginia

Laurette Tucker, USDA Rural Development, 1606 Santa Rosa Road, Suite 238, Richmond, VA 23229, (434) 392-4906 Ext. 125, (804) 287-1606, Laurette.Tucker@va.usda.gov.

Virgin Islands (see Florida)

Washington

Mary Traxler, USDA Rural Development, 1835 Black Lake Blvd. SW., Suite B, Olympia, WA 98512, (360) 704-7762, Mary.Traxler@wa.usda.gov.

West Virginia

Lisa Sharp, USDA Rural Development, 1550 Earl Core Road, Suite 101, Morgantown, WV 26505-7500, (304) 284-4871, lisa.sharp@wv.usda.gov.

Wisconsin

Brenda Heinen, USDA Rural Development, 4949 Kirschling Court, Stevens Point, WI 54481, (715) 345-7615, Ext. 139, Brenda.Heinen@wi.usda.gov.

Wyoming

Jon Crabtree, USDA Rural Development, Dick Cheney Federal Building, 100 East B Street, Room 1005, P.O. Box 11005, Casper, WY 82602, (307) 233-6719, Jon.Crabtree@wy.usda.gov.

FOR FURTHER INFORMATION CONTACT: Justin Hatmaker, Rural Business-Cooperative Service, U.S. Department of Agriculture, Stop 3201, 1400 Independence Avenue SW., Washington, DC 20250-3201, Telephone: (202) 720-1599. Email: Justin.Hatmaker@wdc.usda.gov.

SUPPLEMENTARY INFORMATION: The energy programs implemented under the 2008 Farm Bill continue to be a priority of the Secretary of Agriculture, the Undersecretary of Rural Development, and the Administrator of Rural Business-Cooperative Service. Over the past three plus years, we have developed reliable, successful energy programs and are looking to continue our success as we move forward. Our energy programs are making significant beneficial impacts on both rural communities and the business owners and agricultural producers that receive assistance under these programs. Benefits of our energy programs include decreasing the energy footprint of rural communities, businesses, and farms; converting renewable resources into clean energy; and creating and saving jobs.

In recognition of current budget conditions and as we approach the time for developing the next Farm Bill, we are calling together stakeholders in order for Rural Development to provide updates on the Rural Energy for America Program; to discuss ways we can leverage Agency resources, including working with private and public partners and emphasizing guaranteed loans; and to re-iterate our commitment to helping meet the President's energy independence goals. We encourage state energy partners; businesses that have used or may be looking to use our energy programs; lenders; local, state, and federal elected officials and government offices; and grant writers to participate.

Please note that, due to space limitations, participation in each stakeholder meeting will be limited and will be based on a “first-come, first-served” basis. Therefore, we encourage you to contact, as soon as possible, the Rural Development Energy Coordinator for your state, as identified in the ADDRESSES section of this Notice, to obtain information on participating in the meeting for your state.

Lastly, please be advised that, if you participate in one of these meetings, you are responsible for your own transportation and any other costs (e.g., food) incurred in participating in the meeting.

Dated: January 12, 2012.
Judith A. Canales,
Administrator, Rural Business-Cooperative Service.

[FR Doc. 2012-1020 Filed 1-19-12; 8:45 am]

BILLING CODE 3410-XY-P